DEPARTMENT OF THE INTERIOR

Bureau of Land Management

[WY-920-1430-ET; WYW 101899]

Public Land Order No. 7719; Extension of Public Land Order No. 6693; Wyoming.

AGENCY: Bureau of Land Management, Interior.

ACTION: Public Land Order.

SUMMARY: This order extends the withdrawal created by Public Land Order No. 6693 for an additional 20-year period. This extension is necessary to continue protection of the Natural Corrals Archeological Site in Sweetwater County, Wyoming.

DATES: Effective Date: December 9, 2008.

FOR FURTHER INFORMATION CONTACT: Janet Booth, BLM Wyoming State Office, 5353 N. Yellowstone Road, P.O. Box 1828, Cheyenne, Wyoming 82003, 307-775-6124.

SUPPLEMENTARY INFORMATION: The withdrawal extended by this order will expire on December 8, 2028, unless, as a result of a review conducted prior to the expiration date pursuant to Section 204(f) of the Federal Land Policy and Management Act of 1976, 43 U.S.C. 1714(f) (2000), the Secretary determines that the withdrawal shall be further extended.

Order

By virtue of the authority vested in the Secretary of the Interior by Section 204 of the Federal Land Policy and Management Act of 1976, 43 U.S.C. 1714 (2000), it is ordered as follows:

Public Land Order No. 6693 (53 FR 49664, (1988)), which withdrew 357.34 acres of public land from settlement, sale, location, or entry under the general land laws, including the mining laws, but not the mineral leasing laws to protect the Natural Corrals Archeological Site, is hereby extended for an additional 20-year period until December 8, 2028.

Authority: 43 CFR 2310.4.

Dated: November 20, 2008.
C. Stephen Allred,
Assistant Secretary—Land and Minerals Management.

[FR Doc. E8-29326 Filed 12-10-08; 8:45 am]

BILLING CODE 4310-22-P